DEPARTMENT OF JUSTICE

Notice of Lodging of Consent Decree Under the Comprehensive Environmental Response, Compensation, and Liability Act of 1980

Notice is hereby given that on August 21, 2008, a Complaint was filed and a proposed Consent Decree was lodged with the United States District Court for the District of New Jersey in United States of America v. Air Products and Chemicals, Inc., Civil Action No. 2:08-cv-04216.

In this action the United States seeks reimbursement of response costs incurred by EPA for response actions at the Chemsol, Inc. Superfund Site (“Site”) in Piscataway Township, Middlesex County, New Jersey, and performance of studies and response work at the Site consistent with the National Contingency Plan, 40 CFR Part 300, pursuant to Sections 106 and 107 of the Comprehensive Environmental, Response, Compensation, and Liability Act, 42 U.S.C. 9606 and 9607 (“CERCLA”). The Consent Decree provides that the new settlors will financially contribute to and perform work at the Site together with a group of potentially responsible parties that resolved their liability to the United States in 2000 in a Consent Decree. The value of this settlement is estimated at approximately $3.1 million, of which $380.170.83 will be paid to EPA for unreimbursed response costs, and $95,747.14 will be paid to the State of New Jersey for the State's Natural Resource Damages caused by the release of hazardous substances at the Site.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Air Products and Chemicals, et al., D.J. Ref. 90-11-3-06104/3.

The Consent Decree may be examined at the Office of the United States Attorney, Federal Building, 7th Floor, 970 Broad Street, Newark, New Jersey, and at U.S. EPA Region 2, 290 Broadway, New York, NY 100078. During the public comment period, the Consent Decree, may also be examined on the following Department of Justice Web site, http://www.usdoj.gov/enrd/Consent_Decrees.html. A copy of the Consent Decree may also be obtained by mail from the Consent Decree Library, P.O. Box 7611, U.S. Department of Justice, Washington, D.C. 20044-7611 or by faxing or e-mailing a request to Tonia Fleetwood (tonia.fleetwood@usdoj.gov), fax no. (202) 514-0097, phone confirmation number (202) 514-1547. In requesting a copy from the Consent Decree Library, please enclose a check in the amount of $ 66.50 (25 cents per page reproduction cost) payable to the U.S. Treasury or, if by e-mail or fax, forward a check in that amount to the Consent Decree Library at the stated address.

Ronald G. Gluck,
Assistant Chief, Environmental Enforcement Section, Environment and Natural Resources Division.

[FR Doc. E8-20536 Filed 9-4-08; 8:45 am]

BILLING CODE 4410-15-P